DEPARTMENT OF TRANSPORTATION

Federal Aviation Administration

14 CFR Parts 23, 25, 33, and 35

[Docket No.: FAA-2007-27310; Amendment Nos. 23-59, 25-126, 33-28, and 35-5]

RIN 2120-AI95

Airworthiness Standards; Propellers; Correction

AGENCY: Federal Aviation Administration (FAA), DOT.

ACTION: Final rule; corrections.

SUMMARY: This document corrects the amendment number and a typographical error in the final rule published in the Federal Register on Friday, October 24, 2008. The final rule amends the airworthiness standards for issuance of original and amended type certificates for airplane propellers.

DATES: This amendment becomes effective December 23, 2008.

FOR FURTHER INFORMATION CONTACT: Jay Turnberg, Engine and Propeller Directorate Standards Staff, ANE-110, Federal Aviation Administration, 12 New England Executive Park, Burlington, Massachusetts 01803-5299; telephone (781) 238-7116; facsimile (781) 238-7199, e-mail: jay.turnberg@faa.gov.

Correction

In the final rule, Airworthiness Standards; Propellers, published in the Federal Register issue of Friday, October 24, 2008, (73 FR 63339) make the following corrections:

1. On page 63339, in the second column, the fifth line of the heading, “Amendment No. 35-5” is corrected to read, “Amendment No. 35-8.”

2. On page 63340, in the third column, revise the heading “Harmonization with S-P Amendment 1” to read “Harmonization with CS-P Amendment 1”.

Issued in Washington, DC, on October 31, 2008.
Pamela Hamilton-Powell,
Director, Office of Rulemaking.

[FR Doc. E8-26392 Filed 11-5-08; 8:45 am]

BILLING CODE 4910-13-P